DEPARTMENT OF ENERGY

Federal Energy Regulatory Commission

Notice of Technical Conference

| Docket No.
Review of Generator Interconnection Agreements and Procedures | RM16-12-000.
American Wind Energy Association | RM15-21-000.

Take notice that the Federal Energy Regulatory Commission (Commission) will convene a staff-led technical conference in the above-referenced proceedings on Friday, May 13, 2016 from 9:30 a.m. to 4:30 p.m. (EDT). The conference will be held in the Commission Meeting Room at Commission headquarters, 888 First Street NE., Washington, DC 20426. Commissioners may attend and participate.

The purpose of this conference is to discuss select issues related to a petition for rulemaking submitted by the American Wind Energy Association (Docket No. RM15-21-000). In addition, the conference will explore other generator interconnection issues, including interconnection of energy storage.¹

¹ The comments filed in Docket No. RM15-21-000 will be incorporated into Docket No. RM16-12-000.

Discussions at the conference may involve issues raised in proceedings that are currently pending before the Commission. These proceedings include, but are not limited to:

E.ON Climate & Renewables North America LLC, Pioneer Trail Wind Farm, LLC, Settlers Trail Wind Farm, LLC v. Northern Indiana Public Service Company, Docket No. EL14-66-002;

Entergy Arkansas, Inc., Docket No. ER14-671-000;

Internal MISO Generators v. Midcontinent Independent System Operator, Inc., Docket No. EL15-99-000;

Midcontinent Independent System Operator, Inc., Docket No. ER16-675-000;

California Independent System Operator Corporation, Docket No. ER16-693-000;

ISO New England, Inc., Docket No. ER16-946-000;

Midcontinent Independent System Operator, Inc., Docket No. ER16-1120-000; and

Midcontinent Independent System Operator, Inc., Docket No. ER16-1211-000.

Additional information regarding the conference program will be provided in subsequent supplemental notices of technical conference.

There is no fee for attendance. In-person attendees should allow time to pass through building security procedures before the 9:30 a.m. start time of the technical conference. Pre-registration is encouraged though not required. Attendees may register in advance at the following Web page: https://www.ferc.gov/whats-new/registration/05-13-16-form.asp.

The conference will be transcribed and webcast. Transcripts will be available immediately for a fee from Ace Reporting (202-347-3700). A link to the webcast of this event will be available in the Commission Calendar of Events at www.ferc.gov. The Capitol Connection provides technical support for the webcasts and offers the option of listening to the conferences via phone-bridge for a fee. For additional information, visit www.CapitolConnection.org or call (703) 993-3100.

Commission conferences are accessible under section 508 of the Rehabilitation Act of 1973. For accessibility accommodations please send an email to accessibility@ferc.gov or call toll free 1-866-208-3372 (voice) or 202-208-8659 (TTY), or send a fax to 202-208-2106 with the required accommodations.

For more information about this technical conference, please contact Tony Dobbins at Tony.Dobbins@ferc.gov or (202) 502-6630. For information related to logistics, please contact Sarah McKinley at Sarah.Mckinley@ferc.gov or (202) 502-8368.

Dated: March 29, 2016.
Nathaniel J. Davis, Sr.,
Deputy Secretary.

[FR Doc. 2016-07532 Filed 4-1-16; 8:45 am]

BILLING CODE 6717-01-P